SMALL BUSINESS ADMINISTRATION

Performance Review Board Members

AGENCY: U. S. Small Business Administration.

ACTION: Notice of Performance Review Board appointment.

SUMMARY: Federal law requires each agency to publish a notification of the appointment of individuals who will serve as members of that agency's Performance Review Board (PRB). The U.S. Small Business Administration (SBA) hereby provides notice that the membership of its PRB, previously published in the Federal Register on May 14, 2025, is no longer in effect.

SUPPLEMENTARY INFORMATION: The following individuals have been designated to serve on the PRB for the SBA.

Members

1. Robin Wright (Chair), Chief Operating Officer, Office of the Administrator

2. Benjamin Grayson, Deputy Chief of Staff, Office of the Administrator

3. Douglas Robertson, Deputy Chief Information Officer, Office of the Chief Information Officer

4. Susan Streich, Director of Credit Risk Management, Office of Capital Access

5. Thomas Morris, Director of Patient Capital Investments, Office of Investment and Innovation

Authority: 5 U.S.C. 4314(c)(4) and 5 CFR 430.311(a)(4).

Kelly Loeffler,
Administrator.

[FR Doc. 2025-22133 Filed 12-4-25; 8:45 am]

BILLING CODE 8026-09-P